DEPARTMENT OF LABOR

Employment and Training Administration

Notice of Availability of Funds and Funding Opportunity Announcement for Reentry Demonstration Projects for Young Adults Grants

AGENCY: Employment and Training Administration, Labor.

ACTION: Notice of Funding Opportunity Announcement (FOA).

Funding Opportunity Number: FOA-ETA-16-06

SUMMARY: The Employment and Training Administration (ETA), U.S. Department of Labor (the Department), announces the availability of approximately $30,250,000 in grant funds authorized by the Workforce Innovation and Opportunity Act (WIOA). The Department intends to award these grants to a combination of rural- and urban-serving organizations.

This Announcement solicits applications for Reentry Demonstration Projects for Young Adults. The purpose of these grants is to utilize evidence-based and informed interventions or new interventions that theory or research suggests are promising to improve employment outcomes of young adults between the ages of 18 to 24 who have been involved in the juvenile or adult justice system and who reside in high-poverty, high-crime communities.

The Department plans to award approximately seven grants of up to $4,500,000 each to eligible applicants. All applicants must have the capacity to implement multi-site projects and may only submit one application in response to this FOA. These awards will have a 36-month period of performance which includes a planning period, period of operation, and follow-up period; the period of operation must be at least 24 months of the total period of performance. The anticipated start date is July 1, 2016.

The complete FOA and any subsequent FOA amendments in connection with this funding opportunity are described in further detail on ETA's Web site at https://www.doleta.gov/grants/find_grants.cfm or on http://www.grants.gov. The Web sites provide application information, eligibility requirements, review and selection procedures, and other program requirements governing this funding opportunity.

DATES: The closing date for receipt of applications under this announcement is April 19, 2016. Applications must be received no later than 4:00:00 p.m. Eastern Time.

FOR FURTHER INFORMATION CONTACT: Ariam Ferro, 200 Constitution Avenue NW., Room N-4716, Washington, DC 20210; Telephone: 202-693-3968.

Eric Luetkenhaus,
Grant Officer, Employment and Training Administration.

[FR Doc. 2016-06613 Filed 3-23-16; 8:45 am]

BILLING CODE 4510-FN-P